DEPARTMENT OF LABOR

Employment and Training Administration

[TA-W-61,904]

Recon Automotive Remanufactors, Philadelphia, PA; Notice of Termination of Investigation

Pursuant to section 221 of the Trade Act of 1974, as amended, an investigation was initiated on July 31, 2007, in response to a worker petition filed on behalf of workers at Volt Services Group, Houston, Texas.

The petitioning group of workers is covered by an earlier petition (TA-W-61,874) filed on July 24, 2007 that is the subject of an ongoing investigation for which a determination has not yet been issued. Further investigation in this case would duplicate efforts and serve no purpose; therefore the investigation under this petition has been terminated.

Signed in Washington, DC, this 6th day of August, 2007.
Richard Church,
Certifying Officer, Division of Trade Adjustment Assistance.

[FR Doc. E7-15846 Filed 8-13-07; 8:45 am]

BILLING CODE 4510-FN-P